DEPARTMENT OF THE TREASURY

Departmental Offices; Submission for OMB Review, Comment Request

ACTION: Notice and request for comments.

SUMMARY: The Department of the Treasury, on behalf of itself and the United States Bureau of Engraving and Printing (BEP) and as part of its continuing effort to reduce paperwork and respondent burden, invites the general public and other Federal agencies to comment on an proposed extension to an information collection, as required by the Paperwork Reduction Act of 1995, Public Law 104-13 (44 U.S.C. 3506(c)(2)(A)). The BEP intends to request approval from the Office of Management and Budget (OMB) for extension of an existing information collection, titled “Owner's Affidavit of Partial Destruction of Mutilated Currency.” The current information collection is assigned OMB Number 1520-0001. The information collection requests owners of partially destroyed U.S. currency to complete a notarized affidavit (BEP Form 5283) for each redemption claim submitted when substantial portions of notes are missing.

DATES: Written comments should be received on or before March 26, 2012 to be assured of consideration.

ADDRESSES: Comments regarding this information collection should be addressed to the BEP Contact listed below and to the Treasury Department PRA Clearance Officer, Department of the Treasury, Room 11000, 1750 Pennsylvania Avenue NW., Washington, DC 20220.

FOR FURTHER INFORMATION CONTACT: Copies of the submission(s) may be obtained by contacting Sonya White, Deputy Chief Counsel, United States Department of the Treasury, Bureau of Engraving and Printing, 14th and C Streets SW., Washington, DC 20228, by telephone at (202) 874-8184, or by email at sonya.white@bep.gov.

SUPPLEMENTARY INFORMATION:

Title: Owner's Affidavit of Partial Destruction of Mutilated Currency.”

OMB Control Number: 1520-0001.

Abstract: The Congressional Act of March 17, 1862, authorized the Secretary of the Treasury to redeem or replace damaged U.S. currency under such regulations as he or she might prescribe. The authority has been delegated to the Office of Currency Standards, and is guided by Treasury Department Circular 55 which states an affidavit form will be requested from the remitters of damaged currency when substantial portions are missing from the notes presented to the Treasury for redemption. Treasury's Mutilated Currency Examiners use the information stated in the affidavit to make a fair and equitable determination of the redemption value of such damaged currency.

Type of Review: Extension.

Affected Public: Individuals and households.

Respondent's Obligation: Voluntary.

Estimated Number of Respondents: Approximately 150 per year. The BEP will conduct the majority of its information collection activities at conferences and meeting of organizations of blind and visually impaired persons. The BEP is able to estimate the number of attendees at such conferences and meetings. The BEP, however, only collects information from volunteers who stop by its information booth, and who care to take the time responding to questions. It is difficult, therefore, to estimate the actual number of respondents from whom BEP may be able to collect information in a year.

Estimated Average Time per Respondent: 36 minutes per response.

Estimated Total Annual Burden Hours: Approximately 90 burden hours.

Request for Comments: Comments submitted in response to this notice will be summarized and/or included in the request for Office of Management and Budget approval. All comments will become a matter of public record. The public is invited to submit written comments concerning: (a) Whether the collection of information is necessary for the proper performance of the functions of the Bureau, including whether the information will have practical uses; (b) the accuracy of the above estimate of the burden of the proposed information collection; (c) ways to enhance the quality, usefulness, and clarity of the information to be collected; and (d) ways to minimize the reporting and/or record keeping burdens on respondents, including the use of automated collection techniques or other forms of information technology.

Treasury Department PRA Clearance Officer: Robert Dahl, Department of the Treasury, Room 11000, 1750 Pennsylvania Avenue NW., Washington, DC 20220.

BEP Contact: Sonya White, Deputy Chief Counsel, United States Department of the Treasury, Bureau of Engraving and Printing, Room 419-A, 14th and C Streets SW., Washington, DC 20228.

Robert Dahl,
Treasury Department PRA Clearance Officer.

[FR Doc. 2012-1578 Filed 1-25-12; 8:45 am]

BILLING CODE 4810-25-P